DEPARTMENT OF JUSTICE

Drug Enforcement Administration

[OMB Number 1117-0001]

Agency Information Collection Activities: Proposed Collection; Comments Requested

ACTION: 60-Day Notice of Information Collection Under Review; Report of Theft or Loss of Controlled Substances—DEA Form 106.

The Department of Justice (DOJ), Drug Enforcement Administration (DEA), will be submitting the following information collection request to the Office of Management and Budget (OMB) for review and approval in accordance with the Paperwork Reduction Act of 1995. The proposed information collection is published to obtain comments from the public and affected agencies. Comments are encouraged and will be accepted until April 14, 2008. This process is conducted in accordance with 5 CFR 1320.10.

If you have comments, especially on the estimated public burden or associated response time, suggestions, or need a copy of the proposed information collection instrument with instructions or additional information, please contact Mark W. Caverly, Chief, Liaison and Policy Section, Office of Diversion Control, Drug Enforcement Administration, Washington, DC 20537.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Report of Theft or Loss of Controlled Substances (DEA Form 106).

(3) Agency form number, if any, and the applicable component of the Department sponsoring the collection:

Form number: DEA Form 106.

Component: Office of Diversion Control, Drug Enforcement Administration, Department of Justice.

(4) Affected public who will be asked or required to respond, as well as a brief abstract:

Primary: Business or other for-profit.

Other: Not-for-profit, State, local or tribal government.

Abstract: Title 21 CFR, 1301.74(c) & 1301.76(b) require DEA registrants to complete and submit DEA-106 upon discovery of a theft or significant loss of controlled substances. This provides accurate accountability and allows DEA to monitor substances diverted for illicit purposes.

(5) An estimate of the total number of respondents and the amount of time estimated for an average respondent to respond: DEA estimates that 6,250 registrants submit 9,500 forms annually for this collection, taking .5 hours (30 minutes) to complete each form.

(6) An estimate of the total public burden (in hours) associated with the collection: 4,750 annual burden hours.

If additional information is required contact: Lynn Bryant, Department Clearance Officer, United States Department of Justice, Justice Management Division, Policy and Planning Staff, Patrick Henry Building, Suite 1600, 601 D Street, NW., Washington, DC 20530.

Dated: February 6, 2008.
Lynn Bryant
Department Clearance Officer, PRA Department of Justice.

[FR Doc. E8-2520 Filed 2-11-08; 8:45 am]

BILLING CODE 4410-09-P